DEPARTMENT OF HEALTH AND HUMAN SERVICES

[Document Identifier: OS-0990-New]

Agency Information Collection Request 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above e-mail address within 60 days.

Proposed Project: Evaluating Institutions Research Misconduct Education Efforts—OMB No. 0990-NEW-Office of Research Integrity.

Abstract: The Office of Research Integrity (ORI) is conducting this study of Research Misconduct Education in medical schools because these institutions are responsible for dissemination of information and guidelines to their faculty, staff, and students concerning the U.S. Public Health Service (PHS) Policies on Research Misconduct (42 CFR Part 93). The ORI review of institutional research misconduct policies, investigation reports, requests for technical assistance in handling allegations, and analyses of filings of the Annual Report on Possible Research Misconduct (PHS 6349) have raised questions about the level of knowledge that medical school faculty conducting research and responding to allegations, and the faculty's perception of their institution's commitment to dealing with research misconduct. This study is designed to evaluate the knowledge of medical school faculty members about their institution's policies and procedures, identify best practices and approaches used by medical institutions, which account for the most positive perceptions of commitment and the best understanding of research misconduct. Also, the study will identify the areas of responsibility and specify the activities that institutions perform in the process of educating their employees to the meaning of scientific misconduct at their institutions.

This will involve a one-time data collection effort. These researchers have been identified from a list of medical school principal investigators (PIs) that we obtained from the National Institutes of Health (NIH). All received NIH research projects awards in 2005 or 2006.

Estimated Annualized Burden Hours
Forms | Type of respondent | Number of respondents | Number of responses per respondent | Average burden hours per response | Total burden hours
Recruit Letters | Researchers | 10,754 | 1 | 15/60 | 896
Web Survey | Researchers | 10,754 | 1 | 20/60 | 3,585
Total |  |  |  |  | 4,481

Terry Nicolosi,
Office of the Secretary, Paperwork Reduction Act Reports Clearance Officer.

[FR Doc. E8-16963 Filed 7-23-08; 8:45 am]

BILLING CODE 4150-31-P